DEPARTMENT OF TRANSPORTATION

Federal Aviation Administration

14 CFR Part 39

[Docket No. FAA-2008-0034 Directorate Identifier 2007-CE-097-AD; Amendment 39-15428; AD 2008-06-16]

RIN 2120-AA64

Airworthiness Directives; Pacific Aerospace Corporation, Ltd Model 750XL Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

DCA/750XL/3A is prompted by a report from the manufacturer of the possibility that wiring loom protective sleeving is not fitted to aircraft S/N 107 through to 134. AD applicability revised to include aircraft up to S/N 134.

To prevent fretting damage to the wiring loom that may lead to arcing in proximity to the fuel vent lines and the possibility of fire * * *.

We are issuing this AD to require actions to correct the unsafe condition on these products.

DATES: This AD becomes effective April 23, 2008.

On April 23, 2008, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Discussion

We issued a notice of proposed rulemaking (NPRM) to amend 14 CFR part 39 to include an AD that would apply to the specified products. That NPRM was published in the Federal Register on January 18, 2008 (73 FR 3417). That NPRM proposed to correct an unsafe condition for the specified products. The MCAI states:

DCA/750XL/3A is prompted by a report from the manufacturer of the possibility that wiring loom protective sleeving is not fitted to aircraft S/N 107 through to 134. AD applicability revised to include aircraft up to S/N 134.

To prevent fretting damage to the wiring loom that may lead to arcing in proximity to the fuel vent lines and the possibility of fire * * *.

Comments

We gave the public the opportunity to participate in developing this AD. We received no comments on the NPRM or on the determination of the cost to the public.

Conclusion

We reviewed the available data and determined that air safety and the public interest require adopting the AD as proposed.

Differences Between this AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 7 products of U.S. registry. We also estimate that it will take about 0.5 work-hour per product to comply with basic requirements of this AD. The average labor rate is $80 per work-hour. Required parts will cost about $30 per product.

Based on these figures, we estimate the cost of this AD to the U.S. operators to be $490 or $70 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-06-16 Pacific Aerospace Corporation, Ltd.: Amendment 39-15428; Docket No. FAA-2008-0034; Directorate Identifier 2007-CE-097-AD.

Effective Date

(a) This airworthiness directive (AD) becomes effective April 23, 2008.

Affected ADs

(b) None.

Applicability

(c) This AD applies to Model 750XL airplanes, serial numbers 102 through 134, certificated in any category.

Note 1: The applicability of this AD takes precedence over Pacific Aerospace Corporation Limited Mandatory Service Bulletin PACSB/XL/009, issue 2, revised July 23, 2004.

Subject

(d) Air Transport Association of America (ATA) Code 39: Electrical Wiring.

Reason

(e) The mandatory continuing airworthiness information (MCAI) states:

DCA/750XL/3A is prompted by a report from the manufacturer of the possibility that wiring loom protective sleeving is not fitted to aircraft S/N 107 through to 134. AD applicability revised to include aircraft up to S/N 134.

To prevent fretting damage to the wiring loom that may lead to arcing in proximity to the fuel vent lines and the possibility of fire, inspect the main wiring loom on the right hand side of the aircraft adjacent to the frames at station 114.34” and 118.84”, per PACSB/XL/009 issue 2, to ensure that two pieces of protective sleeving are fitted.

The effectivity of the service information is serial number (S/N) 102 through 106. The MCAI expanded the applicability to S/N 102 through 134.

Actions and Compliance

(f) Unless already done, do the following actions:

(1) Within the next 100 hours time-in-service (TIS) after April 23, 2008 (the effective date of this AD), inspect the main wiring loom on the right hand side of the aircraft adjacent to the frames at station 114.34” and 118.84” to ensure there are two pieces of protective sleeving installed following Pacific Aerospace Corporation Limited Mandatory Service Bulletin PACSB/XL/009, issue 2, revised July 23, 2004.

(2) If you find the protective sleeves are missing as a result of the inspection required by paragraph (f)(1) of this AD, before further flight, install protective sleeves following Pacific Aerospace Corporation Mandatory Service Bulletin PACSB/XL/009, issue 2, revised July 23, 2004.

FAA AD Differences

Note 2: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090. Before using any approved AMOC on any airplane to which the AMOC applies, notify your appropriate principal inspector (PI) in the FAA Flight Standards District Office (FSDO), or lacking a PI, your local FSDO.

Material Incorporated by Reference

(h) You must use Pacific Aerospace Corporation Limited Mandatory Service Bulletin PACSB/XL/009, issue 2, revised July 23, 2004, to do the actions required by this AD, unless the AD specifies otherwise.

(1) The Director of the Federal Register approved the incorporation by reference of this service information under 5 U.S.C. 552(a) and 1 CFR part 51.

(2) For service information identified in this AD, contact Pacific Aerospace Limited, Hamilton Airport, Private Bag, 3027 Hamilton, New Zealand; telephone: +64 7-843-6144; facsimile: +64 7-843-6134.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on March 7, 2008.
Kim Smith,
Manager, Small Airplane Directorate, Aircraft Certification Service.

[FR Doc. E8-5062 Filed 3-18-08; 8:45 am]

BILLING CODE 4910-13-P